COMMITTEE FOR PURCHASE FROM PEOPLE WHO ARE BLIND OR SEVERELY DISABLED

Procurement List Proposed Additions

AGENCY: Committee for Purchase From People Who Are Blind or Severely Disabled.

ACTION: Proposed Additions to the Procurement List.

SUMMARY: The Committee is proposing to add a product and service to the Procurement List that will be furnished by nonprofit agencies employing persons who are blind or have other severe disabilities.

Comments Must be Received on or Before: 2/6/2012.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and service to the Government.

2. If approved, the action will result in authorizing small entities to furnish the product and service to the Government.

3. There are no known regulatory alternatives which would accomplish the objectives of the Javits-Wagner-O'Day Act (41 U.S.C. Chapter 85) in connection with the product and service proposed for addition to the Procurement List.

Comments on this certification are invited. Commenters should identify the statement(s) underlying the certification on which they are providing additional information.

End of Certification

The following product and service are proposed for addition to Procurement List for production by the nonprofit agencies listed:

Product:

NSN: 3990-00-NSH-0078—Pallet, Treated Wood, 70″ x 42″.

NPA: Willamette Valley Rehabilitation Center, Inc., Lebanon, OR.

Contracting Activity: Dept of Justice, Federal Prison System, Washington, DC.

Coverage: C-List for 100% of the requirements of UNICOR—Sheridan, OR as aggregated by Federal Prison Industries.

Service:

Service Type/Location: Mail Services, National Finance Center (Offsite: 2762 Rand Rd., Indianapolis, IN), 13800 Old Gentilly Road, New Orleans, LA.

NPA: Anthony Wayne Rehabilitation Ctr for Handicapped and Blind, Inc., Fort Wayne, IN.

Contracting Activity: Dept of Agriculture, USDA, Office of the Chief Financial Officer, Washington, DC.

On Friday, December 23, 2011, the Committee proposed for addition to the Procurement List, for production a nonprofit agency, the following service:

Service Type/Location: Dining Facility Attendant, Buildings 1162 and 2382, Fort Polk, LA.

NPA: Lakeview Center, Inc., Pensacola, FL.

Contracting Activity: Dept of the Army, W6QM, FT POLK DOC, Fort Polk, LA.

The following information is provided to further describe the Dining Facility Attendant service being proposed for addition to the Procurement List.

For this project, the DoD contracting activity specifically identified its requirement as Dining Facility Attendant (DFA) Services in its Performance Work Statement (PWS). The dining facilities associated with this service requirement are Buildings 1162 and 2382, and the PWS states that Government personnel will perform management, supervision, cooking, food preparation, and baking in the two facilities. At no time will the contractor be responsible for the management and operational control of the dining facilities. These Government personnel are expected to be the food service personnel assigned to military units subsisting in the facilities. These military personnel will operate and manage the dining facilities and will be augmented by contractor-provided dining facility attendants.

The PWS describes the DFA service tasks as post cleaning of eating utensils, compartmented trays, beverage containers, insulated food containers and inserts * * *, full vegetable preparation; prepare, maintain, and clean dining areas; clean condiment containers, clean spills and remove soiled dinnerware, clean dining room tables, chairs, and booths, clean dining room walls, baseboards, window ledges, doors/door frames, ceiling fans, pictures, wall art, artificial plants, light fixtures, globes/lenses, trophies/display cases, drapes/curtains, venetian blinds and curtain rods; display and remove holiday decorations, buss and replace tray carts during meal periods, service and maintain patron self-service areas, clean food service equipment, utensils, and perform dishwashing, clean and sanitize all pots, pans, utensils, storage shelves, and racks; provide equipment cleaning service, perform facility maintenance and sanitation; provide trash and garbage service; preparation of facilities for pest control fogging; provide pre-opening and post vector control clean-up services.

Comments on the Dining Facility Attendant Service at Fort Polk, LA must be received on or before 1/23/2012.

Barry S. Lineback,
Director, Business Operations.

[FR Doc. 2012-39 Filed 1-5-12; 8:45 am]

BILLING CODE 6353-01-P